DEPARTMENT OF TRANSPORTATION

Surface Transportation Board

[Ex Parte No. 333]

Sunshine Act Meeting

Time and Date: 9:30 a.m., February 23, 2005.

Place: The Board's Hearing Room, Surface Transportation Board, 1925 K Street, NW., Washington, DC 20423.

Status: The Board will meet to discuss among themselves the following agenda items. Although the conference is open for public observation, no public participation is permitted.

Matters to be Considered: STB Finance Docket No. 33388 (Sub-No. 91), CSX Corporation and CSX Transportation, Inc., Norfolk Southern Corporation and Norfolk Southern Railway Company—Control and Operating Leases/Agreements—Conrail Inc. and Consolidated Rail Corporation [General Oversight].

STB Finance Docket No. 34501, James Riffin d/b/a The Northern Central Railroad—Acquisition and Operation Exemption—in York County, PA.

Embraced Case: STB Finance Docket No. 34552, James Riffin d/b/a The Northern Central Railroad—Petition for Declaratory Order.

STB Finance Docket No. 34612, Boston and Maine Corporation and Springfield Terminal Railway Company v. New England Central Railroad, Inc.

STB Finance Docket No. 34608, Ohio Valley Railroad Company—Petition to Restore Switch Connection and Other Relief.

STB Finance Docket No. 34486, Ohio Valley Railroad Company—Acquisition and Operation Exemption—Harwood Properties, Inc.

STB Finance Docket No. 34518, Central Illinois Railroad Company—Operation Exemption—Rail Line of the City of Peoria and the Village of Peoria Heights in Peoria and Peoria Heights, Peoria County, IL.

Embraced Case: STB Finance Docket No. 34636, Pioneer Industrial Railway Company—Petition for Declaratory Order.

STB Docket No. MC-F-21010, Atlas Van Lines, Inc., et al.—Pooling Agreement.

STB Docket No. AB-512X, Sierra Pacific Industries—Abandonment Exemption-—in Amador County, CA.

Embraced Case: STB Docket No. AB-880X, SierraPine—Discontinuance Exemption—in Amador County, CA.

STB Finance Docket No. 34417 (Sub-No. 3), Union Pacific Railroad Company—Temporary Trackage Rights Exemption—BNSF Railway Company.

Contact Person for More Information: A. Dennis Watson, Office of Congressional and Public Services, Telephone: (202) 565-1596 FIRS: 1-800-877-8339.

Dated: February 15, 2005.
Vernon A. Williams,
Secretary.

[FR Doc. 05-3343 Filed 2-16-05; 12:45 pm]

BILLING CODE 4915-01-P